FEDERAL COMMUNICATIONS COMMISSION

Notice of Public Information Collection(s) Submitted to OMB for Review and Approval

January 15, 2003.

SUMMARY: The Federal Communications Commission, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before February 27, 2003. If you anticipate that you will be submitting comments, but find it difficult to do so within the period of time allowed by this notice, you should advise the contact listed below as soon as possible.

ADDRESSES: Direct all comments to Les Smith, Federal Communications Commissions, Room 1-A804, 445 12th Street, SW., Washington, DC 20554 or via the Internet to lesmith@fcc.gov.

FOR FURTHER INFORMATION CONTACT: For additional information or copies of the information collections contact Les Smith at (202) 418-0217 or via the Internet at lesmith@fcc.gov.

SUPPLEMENTARY INFORMATION:

OMB Control Number: 3060-0636.

Title: Equipment Authorization—Declaration of Compliance, Parts 2 and 15.

Form Number: N/A.

Type of Review: Reinstatement without change of a previously approved collection for which approval has expired.

Respondents: Business or other for-profit entities.

Number of Respondents: 4,000.

Estimated Time per Response: 19 hours (avg.).

Frequency of Response: Recordkeeping; One-time reporting requirement; Third party disclosure.

Total Annual Burden: 76,000 hours.

Total Estimated Cost: $12,000,000.

Needs and Uses: The equipment authorization procedure requires the manufacturer or equipment supplier to test the product to ensure compliance with technical standards for limiting radio frequency emissions and to include a declaration of compliance (DoC) with the standards in the literature furnished with the equipment. Testing and compliance documentation aid in controlling potential interference to radio communications. The test data may be used to investigate complaints of harmful interference; to determine that the equipment marketed complies with the applicable FCC; and to insure that the operation of the equipment is consistent with the documented test results. FCC rules require the responsible party to make the statement of compliance and supporting technical data available to the Commission upon request. The FCC rules also authorize personal computers based on tests and approval of their individual components, without further testing of the completed assembly.

Federal Communications Commission.
Marlene H. Dortch,
Secretary.

[FR Doc. 03-1847 Filed 1-27-03; 8:45 am]

BILLING CODE 6712-01-P